DEPARTMENT OF TRANSPORTATION

Federal Aviation Administration

Notice of Intent To Request Revision From the Office of Management and Budget of a Currently Approved Information Collection Activity, Request for Comments; SFAR No. 105 Operating Limitations for Unscheduled Arrivals at Chicago's O'Hare International Airport

AGENCY: Federal Aviation Administration (FAA), DOT.

ACTION: Notice and request for comments.

SUMMARY: The FAA invites public comments about our intention to request the Office of Management and Budget (OMB) to approve a current information collection. This rule implements a reservation system restricting the number of unscheduled aircraft arrivals at Chicago's O'Hare International Airport.

DATES: Please submit comments by February 4, 2008.

FOR FURTHER INFORMATION CONTACT: Carla Mauney on (202) 267-9895, or by e-mail at: Carla.Mauney@faa.gov.

SUPPLEMENTARY INFORMATION:

Federal Aviation Administration (FAA)

Title: SFAR No. 105 Operating Limitations for Unscheduled Arrivals At Chicago's O'Hare International Airport.

Type of Request: Extension without change of an approved collection.

OMB Control Number: 2120-0694.

Forms: There are no FAA forms associated with this collection.

Affected Public: A total of 10,192 Respondents.

Frequency: The information is collected on occasion.

Estimated Average Burden per Response: Approximately 2 minutes per response.

Estimated Annual Burden Hours: An estimated 340 hours annually.

Abstract: This rule would implement a reservation system restricting the number of unscheduled aircraft arrivals at Chicago's O'Hare International Airport. Respondents would be any operator seeking approval to conduct such an arrival during the peak hours.

ADDRESSES: Send comments to the FAA at the following address: Ms. Carla Mauney, Room 712, Federal Aviation Administration, IT Enterprises Business Services Division, AES-200, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on November 29, 1007.
Carla Mauney,
FAA Information Collection Clearance Officer, IT Enterprises Business Services Division, AES-200.

[FR Doc. 07-5961 Filed 12-5-07; 8:45 am]

BILLING CODE 4910-13-M